DEPARTMENT OF ENERGY

Federal Energy Regulatory Commission

[Project No. 2413-125]

Georgia Power Company; Notice of Availability of Environmental Assessment

In accordance with the National Environmental Policy Act of 1969 and the Federal Energy Regulatory Commission (Commission) regulations, 18 CFR part 380 (Order No. 486, 52 FR 47897), the Office of Energy Projects has reviewed an application submitted by Georgia Power Company (licensee) to allow Greenbriar Sand Company, in Greene County, Georgia, the use of Wallace Dam Hydroelectric (FERC No. 2413) project lands and waters to conduct hydraulic sand mining. The project is located at about river mile 173 on the Oconee River in the Altamaha River Basin in Putnam, Morgan, Oconee, Oglethorpe, Greene and Hancock counties, Georgia. The proposed sand mine would be operated by Greenbriar Sand Company and sited in Greene County. The project occupies federal land administered by the U.S. Forest Service, but the proposed sand mine will not operate on Forest Service land.

An Environmental Assessment (EA) has been prepared as part of Commission staff's review of the proposal. In the application, Greenbriar Sand anticipates removing 1,336 acre feet of sand by dredging at an average depth of four feet within 334 acres of the project reservoir, over the life of the operation. The dredge would pump sand to a 14 acre processing area outside of the project area. This EA contains Commission staff's analysis of the probable environmental impacts of the proposed action and concludes that approval of the proposal would not constitute a major federal action significantly affecting the quality of the human environment.

The EA is available for electronic review and reproduction at the Commission's Public Reference Room, located at 888 First Street NE, Room 2A, Washington, DC 20426. The EA may also be viewed on the Commission's website at http://www.ferc.gov using the eLibrary link. Enter the docket number (P-2413) in the docket number field to access the document. For assistance, contact FERC Online Support at FERCOnlineSupport@ferc.gov or toll-free at (866) 208-3372 or for TTY, (202) 502-8659.

For further information, contact Michael Calloway at (202) 502-8041 or by email at michael.calloway@ferc.gov.

Dated: February 28, 2019.
Nathaniel J. Davis, Sr.,
Deputy Secretary.

[FR Doc. 2019-04001 Filed 3-5-19; 8:45 am]

BILLING CODE 6717-01-P